DEPARTMENT OF LABOR

[Docket No. OSHA-2021-0009]

Occupational Safety and Health Administration

29 CFR Part 1910, 1915, 1917, 1918, 1926, and 1928

RIN 1218-AD39

Heat Injury and Illness Prevention in Outdoor and Indoor Work Settings

AGENCY: Occupational Safety and Health Administration (OSHA), Labor.

ACTION: Notice of proposed rulemaking (NPRM); extension of comment period; notice of informal hearing.

SUMMARY: OSHA is extending the period for submitting comments by 15 days until January 14, 2025, to allow stakeholders interested in the NPRM on Heat Injury and Illness Prevention in Outdoor and Indoor Work Settings additional time to review the NPRM and collect information and data necessary for comment. In addition, OSHA is scheduling an informal public hearing on this proposed rule. The public hearing will begin June 16, 2025. The proposed rule was published in the Federal Register on August 30, 2024.

DATES: The comment period for the NPRM that was published at 89 FR 70698 on August 30, 2024, is extended. Comments on any aspect of the NPRM must be submitted by January 14, 2025.

Informal public hearing: The hearing will be held virtually and will begin June 16, 2025, at 9:30 a.m. If necessary, the hearing will continue on subsequent weekdays. Additional information on how to access the informal hearing will be posted at https://www.osha.gov/heat-exposure/rulemaking. To testify or question other witnesses at the hearing, interested persons must electronically submit their Notice of Intention to Appear (NOITA) on or before May 2, 2025. In addition, those who request more than 10 minutes for their presentation at the informal hearing and those who intend to submit documentary evidence at the hearing must submit the full text of their testimony, as well as a copy of any documentary evidence, no later than May 23, 2025.

ADDRESSES:

Submission of comments: You may submit comments and attachments, identified by Docket No. OSHA-2021-0009, electronically at www.regulations.gov, which is the Federal e-Rulemaking Portal. Follow the online instructions for making electronic submissions. The Federal e-Rulemaking Portal at www.regulations.gov is the only way to submit comments on this NPRM.

Notice of Intention to Appear (NOITA): A NOITA must be submitted electronically at www.osha.gov/heat-exposure/rulemaking. Follow the instructions online for making electronic submissions. Those who file NOITAs must also submit electronic copies of all documents that they intend to use or reference during their testimony. Information about how and when to submit these materials will be provided at the time of registration.

Instructions: All submissions must include the agency's name and the docket number for this rulemaking (Docket No. OSHA-2021-0009). All comments, including any personal information you provide, are placed in the public docket without change and may be made available online at www.regulations.gov. Therefore, OSHA cautions commenters about submitting information they do not want made available to the public or submitting materials that contain personal information (either about themselves or others), such as Social Security Numbers and birthdates.

Docket: To read or download comments or other material in the docket, go to Docket No. OSHA-2021-0009 at www.regulations.gov. All comments and submissions are listed in the www.regulations.gov index; however, some information (e.g., copyrighted material) is not publicly available to read or download through that website. All comments and submissions, including copyrighted material, are available for inspection through the OSHA Docket Office. Documents submitted to the docket by OSHA or stakeholders are assigned document identification numbers (Document ID) for easy identification and retrieval. The full Document ID is the docket number plus a unique four or five-digit code. OSHA is identifying supporting information in this NPRM by author name and publication year, when appropriate. This information can be used to search for a supporting document in the docket at www.regulations.gov. Contact the OSHA Docket Office at 202-693-2350 (TTY number: 877-889-5627) for assistance in locating docket submissions.

FOR FURTHER INFORMATION CONTACT:

For press inquiries, ASL interpretation, and language translation service requests: Contact Mr. Frank Meilinger, Director, Office of Communications, Occupational Safety and Health Administration, U.S. Department of Labor; telephone: (202) 693-1999; email: meilinger.francis2@dol.gov.

For general information, technical, and hearing inquiries: Contact James Frederick, Deputy Assistant Secretary of Labor for Occupational Safety and Health, Occupational Safety and Health Administration, U.S. Department of Labor; telephone: (202) 693-1950; email: osha.dsg@dol.gov.

SUPPLEMENTARY INFORMATION:

On August 30, 2024, OSHA published in the Federal Register a Notice of Proposed Rulemaking (NPRM) for Heat Injury and Illness Prevention in Outdoor and Indoor Work Settings. The proposed standard would apply to all employers conducting outdoor and indoor work in all general industry, construction, maritime, and agriculture sectors where OSHA has jurisdiction. The standard would require employers to create a plan to evaluate and control heat hazards in their workplace. It would clarify employer obligations and the steps necessary to effectively protect employees from hazardous heat.

The public comment period for the NPRM was to close on December 30, 2024, 120 days after publication of the NPRM. However, OSHA received requests from stakeholders to extend the public comment period (see, e.g., Document ID 18667, 18380, 18373, 18664). Stakeholders requested additional time to carefully review the questions in the NPRM, gather data, and prepare their submissions. Several noted that the current deadline falls during the holiday season, when personal schedules may make finalizing comments difficult.

OSHA agrees to an extension of the public comment period and believes a 15-day extension is sufficient and appropriate to balance the agency's need for stakeholder input with the agency's desire to proceed with the rulemaking in a timely manner. The comment period extension will also avoid the comment deadline falling during the holiday season. Therefore, OSHA is extending the public comment period until January 14, 2025.

Additionally, several commenters (see, e.g., Document ID 18377, 18373, 18345) requested that OSHA hold a public hearing. OSHA agrees to hold a fully virtual public hearing, which will begin June 16, 2025, and continue on subsequent weekdays, if necessary. Witnesses are welcome to testify about any topics, issues, or concerns they have with the proposed rule.

I. Informal Public Hearing—Purpose, Rules and Procedures

OSHA invites interested persons to participate in this rulemaking by providing oral testimony and documentary evidence at the informal public hearing to provide the agency with the best available evidence to use in developing a final rule. The public hearing will be fully virtual to provide the opportunity for more stakeholders from across the country to participate in and/or observe the hearing without the financial and logistical burden of traveling to Washington, DC to attend in person.

Pursuant to 29 CFR 1911.15(a) and 5 U.S.C. 553(c), members of the public have an opportunity at the informal public hearing to provide oral testimony and evidence on issues raised by the proposal. An administrative law judge (ALJ) will preside over the hearing and will resolve any procedural matters relating to the hearing.

OSHA's regulation governing public hearings (29 CFR 1911.15) establishes the purpose and procedures of informal public hearings. Although the presiding officer of the hearing is an ALJ and questioning of witnesses is allowed on crucial issues, the proceeding is largely informal and essentially legislative in purpose. Therefore, the hearing provides interested persons with an opportunity to make oral presentations in the absence of rigid procedures that could impede or protract the rulemaking process. The hearing is not an adjudicative proceeding subject to the Federal Rules of Evidence. Instead, it is an informal administrative proceeding convened for the purpose of gathering and clarifying information. Accordingly, questions of relevance, procedure, and participation generally will be resolved in favor of developing a clear, accurate, and complete record.

Although the ALJ presiding over the hearing makes no decision or recommendation on the merits of the proposal, the ALJ has the responsibility and authority necessary to ensure that the hearing progresses at a reasonable pace and in an orderly manner. To ensure a full and fair hearing, the ALJ has the power to regulate the course of the proceedings; dispose of procedural requests, objections, and comparable matters; confine presentations to matters pertinent to the issues the proposed rule raises; use appropriate means to regulate the conduct of persons present at the hearing; question witnesses and permit others to do so; limit the time for such questioning; and leave the record open for a reasonable time after the hearing for the submission of additional data, evidence, comments, and arguments from those who participated in the hearing (29 CFR 1911.16). In addition, pursuant to 29 CFR 1911.4, the Assistant Secretary may, on reasonable notice, issue additional or alternative procedures to expedite the proceedings, to provide greater procedural protections to interested persons, or to further any other good cause consistent with applicable law.

At the close of the hearing, there will be a post-hearing comment period during which those persons who submitted a NOITA may submit final briefs, arguments, summations, and additional data and information to OSHA.

II. Notice of Intention To Appear at the Hearing

Interested persons who intend to provide oral testimony or documentary evidence at the hearing must file a written NOITA prior to the hearing and in accordance with the instructions in the ADDRESSES section earlier in this document. To testify or question other witnesses at the hearing, interested persons must electronically submit their NOITA on or before May 2, 2025. The NOITA must provide the following information:

(1) Name, address, email address, and telephone number of each individual who will give oral testimony;

(2) Name of the establishment or organization each individual represents, if any;

(3) Occupational title and position of each individual testifying; and

(4) A brief statement of the position each individual will take with respect to the issues raised by the proposed rule.

The agency will consider the information in each submission when setting the hearing schedule. Before the hearing, OSHA will make the hearing procedures and hearing schedule available at https://www.osha.gov/heat-exposure/rulemaking and in the docket. OSHA emphasizes that the hearing is open to the public; however, only individuals who file a NOITA may testify at the hearing.

Witnesses will be asked to specify the approximate amount of time requested for each individual or group's testimony (5, 10, 15, or 20 minutes). Individuals or groups who request more than 10 minutes to present their oral testimony at the hearing or who will submit documentary evidence at the hearing must submit the full text of their testimony and all documentary evidence no later than May 23, 2025. The agency will review each submission and determine if the information it contains warrants the amount of time the individual requested for the presentation. If OSHA believes the requested time is excessive, the agency will allocate an appropriate amount of time for the presentation. The agency also may limit to 5 minutes the presentation of any participant who fails to comply substantially with these procedural requirements and may request that the participant return for questioning at a later time. Before the hearing, OSHA will notify participants of the time the agency will allow for their presentation and, if less than requested, the reasons for its decision.

III. Certification of the Hearing Record and Agency Final Determination

Following the close of the hearing and the post-hearing comment period, the ALJ will certify the record to the Assistant Secretary of Labor for Occupational Safety and Health. The record will consist of all written comments, oral testimony, and documentary evidence received during the proceeding. The ALJ, however, will not make or recommend any decisions as to the content of the final standard. Following certification of the record, OSHA will review all the evidence received into the record and will issue the final rule based on the record as a whole.

Authority and Signature

This document was prepared under the direction of Douglas L. Parker, Assistant Secretary of Labor for Occupational Safety and Health, U.S. Department of Labor, 200 Constitution Avenue NW, Washington, DC 20210. It is issued under the authority of sections 4, 6, and 8 of the Occupational Safety and Health Act of 1970 (29 U.S.C. 653, 655, 657); 5 U.S.C. 553; Secretary of Labor's Order No. 8-2020 (85 FR 58393); and 29 CFR part 1911.

Signed at Washington, DC, on November 20, 2024.
Douglas L. Parker,
Assistant Secretary of Labor for Occupational Safety and Health.

[FR Doc. 2024-27897 Filed 11-27-24; 8:45 am]

BILLING CODE 4510-26-P